DEPARTMENT OF JUSTICE

Notice of Lodging of Consent Decree Under the Residential Lead-Based Paint Hazard Reduction Act

Notice is hereby given that on August 19, 2014 a proposed Consent Decree in United States v. Meyer Management, Inc., Civil Action No. 1:14-cv-664 was lodged with the United States District Court for the Southern District of Ohio.

The consent decree settles claims against the owner and manager of 224 housing units in 136 separate properties located in or near Cincinnati, Ohio. The claims were brought on behalf of the Environmental Protection Agency and the Department of Housing and Urban Development under the Residential Lead-Based Paint Hazard Reduction Act, 42 U.S.C. 4851 et seq. (“Lead Hazard Reduction Act”). The United States alleged in the complaint that the Defendant failed to make one or more of the disclosures or to complete one or more of the disclosure activities required by the Lead Hazard Reduction Act.

Under the Consent Decree, the Defendant will certify that it is complying with residential lead paint notification requirements. The Defendant will submit a plan for window replacement work and will replace all windows known to or believed to contain lead-based paint in these 224 housing units owned or managed by Defendant that are not certified lead-based paint free. In addition, Defendant will abate lead-based paint hazards on friction and impact surfaces, stabilize other lead-based paint hazards, and pay an administrative penalty of $7,500.

The publication of this notice opens a period for public comment on the proposed Consent Decree. Comments should be addressed to the Assistant Attorney General, Environment and Natural Resources Division, and should refer to United States v. Meyer Management, Inc., D.J. Ref. #90-5-1-1-10787. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $10.00 (25 cents per page reproduction cost) payable to the United States Treasury.

Maureen Katz
Assistant Chief, Environmental Enforcement Section, Environment and Natural Resources Division.

[FR Doc. 2014-20124 Filed 8-22-14; 8:45 am]

BILLING CODE 4410-15-P